DEPARTMENT OF ENERGY

[OE Docket No. EA-191-D]

Application To Export Electric Energy; Sempra Energy Trading LLC

AGENCY: Office of Electricity Delivery and Energy Reliability, DOE.

ACTION: Notice of application.

SUMMARY: Sempra Energy Trading LLC (SET) has applied to renew its authority to transmit electric energy from the United States to Canada pursuant to section 202(e) of the Federal Power Act (FPA).

DATES: Comments, protests, or requests to intervene must be filed and received by DOE on or before December 22, 2010.

ADDRESSES: Comments, protests or requests to intervene should be addressed to: Christopher Lawrence, Office of Electricity Delivery and Energy Reliability, Mail Code: OE-20, U.S. Department of Energy, 1000 Independence Avenue, SW., Washington, DC 20585-0350. Because of delays in handling conventional mail, it is recommended that documents be transmitted by overnight mail, by electronic mail to Christopher.Lawrence@hq.doe.gov, or by facsimile to 202-586-8008.

FOR FURTHER INFORMATION CONTACT: Christopher Lawrence (Program Office) 202-586-5260.

SUPPLEMENTARY INFORMATION: Exports of electricity from the United States to a foreign country are regulated by the Department of Energy (DOE) pursuant to sections 301(b) and 402(f) of the Department of Energy Organization Act (42 U.S.C. 7151(b), 7172(f)) and require authorization under section 202(e) of the FPA (16 U.S.C.824a(e)).

On November 10, 1998, the Department of Energy (DOE) issued Order No. EA-191 which authorized Sempra Energy Trading Corp. (SETC) to transmit electric energy from the United States to Canada for a two-year term as a power marketer using existing international transmission facilities. DOE renewed the SETC export authorization two additional times: on January 19, 2001 in Order No. EA-191-A and again on April 5, 2006 in Order No. EA-191-B. Order No. EA-191-B expired on November 5, 2010. On April 10, 2008, DOE issued Order No. EA-191-C, amending EA-191-B to authorize SETC to export under its new name, Sempra Energy Trading LLC (SET), under the same terms contained in Order No. EA-191-B. On October 12, 2010, SET filed an application with DOE for renewal of the export authority contained in Order No. EA-191-C for an additional five-year term.

On November 23, 2010, SET supplemented its application by requesting expedited treatment of their application. In its letter, SET indicated that due to an administrative oversight it had not applied to renew its authorization in sufficient time to allow for normal DOE processing. SET recognized that its authority to export electric energy to Canada had expired and asserted that it has not traded electric energy since expiration of Order No. EA-191-B and that it would not do so until and unless it received renewed authority to export at the conclusion of this proceeding. In response to SET's request for expedited treatment, DOE has shortened the public comment period to 15 days.

The electric energy that SET proposes to export to Canada would be surplus energy purchased from electric utilities, Federal power marketing agencies, and other entities within the United States. The existing international transmission facilities to be utilized by SET have previously been authorized by Presidential permits issued pursuant to Executive Order 10485, as amended, and are appropriate for open access transmission by third parties.

Procedural Matters: Any person desiring to become a party to these proceedings or to be heard by filing comments or protests to this application should file a petition to intervene, comment, or protest at the address provided above in accordance with §§ 385.211 or 385.214 of the Federal Energy Regulatory Commission's Rules of Practice and Procedures (18 CFR 385.211, 385.214). Fifteen copies of each petition and protest should be filed with and received by DOE on or before the date listed above.

Comments on the SET application to export electric energy to Canada should be clearly marked with Docket No. EA-191-D. An additional copy is to be filed directly with Ted Chila, Senior Vice President, Sempra Energy Trading LLC, 58 Commerce Road, Stamford, CT 06902. A final decision will be made on this application after the environmental impacts have been evaluated pursuant to DOE's National Environmental Policy Act Implementing Procedures (10 CFR part 1021) and after a determination is made by DOE that the proposed action will not adversely impact on the reliability of the U.S. electric power supply system.

Copies of this application will be made available, upon request, for public inspection and copying at the address provided above, by accessing the program Web site at http://www.oe.energy.gov/permits_pending.htm, or by e-mailing Odessa Hopkins at Odessa.Hopkins@hq.doe.gov.

Issued in Washington, DC, on December 2, 2010.
Anthony J. Como,
Director, Permitting and Siting, Office of Electricity Delivery and Energy Reliability.

[FR Doc. 2010-30625 Filed 12-6-10; 8:45 am]

BILLING CODE 6450-01-P